DEPARTMENT OF HOMELAND SECURITY

Coast Guard

33 CFR Part 117

[CGD07-05-009]

RIN 1625-AA09

Drawbridge Operation Regulation; Seventh Coast Guard District

AGENCY: Coast Guard, DHS.

ACTION: Final rule.

SUMMARY: The Coast Guard is removing drawbridge operation regulations for seven bascule bridges within the Seventh Coast Guard District. The seven bascule bridges were removed and the regulations governing their operation are no longer needed.

DATES: This rule is effective April 12, 2005.

ADDRESSES: Documents referred to in this rule are available for inspection or copying at the office of the Seventh Coast Guard District, Bridge Branch, 909 SE 1st Avenue, Room 432, Miami, Florida 33131, between 7 a.m. and 3 p.m., Monday through Friday, except Federal holidays. The telephone number is (305) 415-6743. The Seventh District Bridge Branch maintains the public docket for this rulemaking.

FOR FURTHER INFORMATION CONTACT: Evelyn Smart, Bridge Branch, at (305) 415-6753.

SUPPLEMENTARY INFORMATION:

Good Cause

We did not publish a notice of proposed rulemaking (NPRM) for this regulation. Under 5 U.S.C. 553(b)(B), the Coast Guard finds that good cause exists for not publishing an NPRM. Public comment is not necessary since the purpose of the affected regulations is to regulate the opening and closing of bridges that have been removed. For the same reasons under 5 U.S.C. 553(d)(3), the Coast Guard finds good cause exists for making this rule effective in less than 30 days after publication in the Federal Register.

Background and Purpose

The State of Florida (Department of Transportation) has removed five bascule bridges, removing the need for their associated regulations. The following bridges have been removed:

a. Brooks Memorial (SE 17th Street) bascule span bridge across the Atlantic Intracoastal Waterway, mile 1065.9 at Fort Lauderdale, Broward County, Florida. (33 CFR 117.261(ii)

b. MacArthur Causeway bascule span bridge across the Atlantic Intracoastal Waterway, mile 1088.8 at Miami, Miami-Dade County, Florida. (33 CFR 117.261(oo))

c. Fuller Warren (I10-I-95) bascule span bridge across the St. Johns River, mile 25.4 at Jacksonville, Duval County, Florida. (33 CFR 117.325(b))

d. Vilano Beach (State Road A1A) bascule span bridge across the Atlantic Intracoastal Waterway, mile 778 at Vilano Beach, Duval County, Florida. (33 CFR 117.261(c))

e. Ringling Causeway (State Road 780) bascule span bridge across the Gulf Intracoastal Waterway, mile 73.6 at Sarasota, Sarasota County, Florida. (33 CFR 117.287(c))

The regulations governing the operation of the above mentioned bascule bridges are to be removed.

The County of Miami-Dade (Department of Public Works) constructed a new bascule bridge of modern safe design to replace the then existing West Venetian Causeway bascule bridge across the Atlantic Intracoastal Waterway, mile 1088.6 at Miami, Miami-Dade County, Florida. The previous bascule span bridge was removed and the regulation governing the operation of that bridge remains in 33 CFR 117.261(nn). The USCG is removing 33 CFR 117.261(nn) from the Code of Federal Regulations as the new bascule bridge opens upon signal as provided for in 33 CFR 117.5.

The State of South Carolina (Department of Transportation) has constructed a new fixed bridge of modern safe design to replace the then existing Maybank Highway bascule span bridge across the Stono River, mile 11.0 at Johns Island, Charleston County, South Carolina. The previous bascule span bridge that serviced the area was removed even though the regulation governing the operation of that bridge still remains at 33 CFR 117.937. The USCG is removing 33 CFR 117.937 from the Code of Federal Regulations since the fixed bridge does not require a bridge operating regulation.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

This rule removes regulations that are obsolete because the bridges they govern no longer exist.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will have no impact on any small entities because the regulations being removed apply to bridges that no longer exist.

Assistance for Small Entities

Under section 213(a) of the Small Business Regulatory Enforcement Fairness Act of 1996 (Public Law 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (32)(e) of the Instruction, from further environmental documentation. Under figure 2-1, paragraph (32)(e), of the Instruction an “Environmental Analysis Check List” and a “Categorical Exclusion Determination” are not required for this rule.

List of Subjects in 33 CFR Part 117

Bridges.

Regulations

For the reasons discussed in the preamble, the Coast Guard amends 33 CFR Part 117 as follows:

PART 117—DRAWBRIDGE OPERATION REGULATIONS

1. The authority citation for Part 117 continues to read as follows:

Authority: 33 U.S.C. 499; Department of Homeland Security Delegation No. 0170.1; 33 CFR 1.05-1(g); Section 117.255 also issued under the authority of Pub. L. 102-587, 106 Stat. 5039.

§ 117.261 [Amended]

2. In § 117.261, remove and reserve paragraphs (c), (ii), (nn) and (oo).

§ 117.287 [Amended]

3. In § 117.287, remove and reserve paragraph (c).

§ 117.325 [Amended]

4. In § 117.325, remove paragraph (b) and redesignate paragraph (c) as paragraph (b).

§ 117.937 [Removed]

5. Remove § 117.937.

Dated: March 31, 2005.
D.B. Peterman,
Rear Admiral, U.S. Coast Guard, Commander, Seventh Coast Guard District.

[FR Doc. 05-7325 Filed 4-11-05; 8:45 am]

BILLING CODE 4910-15-P